DEPARTMENT OF VETERANS AFFAIRS

[OMB Control No. 2900-0004]

Agency Information Collection Activity Under OMB Review: Application for Dependency and Indemnity Compensation, Death Pension and Accrued Benefits by a Surviving Spouse or Child; Application for Dependency and Indemnity Compensation by a Surviving Spouse or Child—In-Service Death; Application for DIC, Death Pension, and/or Accrued Benefits

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before April 23, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0004” in any correspondence.

FOR FURTHER INFORMATION CONTACT: Cynthia Harvey-Pryor, Office of Quality, Privacy and Risk, Department of Veterans Affairs, 811 Vermont Avenue, Floor 5, Area 368, Washington, DC 20420, (202) 461-5870 or email cynthia.harvey-pryor@va.gov. Please refer to “OMB Control No. 2900-0004” in any correspondence.

SUPPLEMENTARY INFORMATION: Authority: 38 U.S.C. 1310 through 1314 and 1532 through 1543.

Title: Application for Dependency and Indemnity Compensation, Death Pension and Accrued Benefits by a Surviving Spouse or Child (VA Form 21P-534); Application for Dependency and Indemnity Compensation by a Surviving Spouse or Child—In-Service Death (21P-534a); Application for DIC, Death Pension, and/or Accrued Benefits (VA Form 21P-534EZ).

OMB Control Number: 2900-0004.

Type of Review: Extension without change of a currently approved collection.

Abstract: Information is requested by these forms under the authority of 38 U.S.C. 1310 through 1314 and 1532 through 1543. VA Form 21P-534 is used to gather the necessary information to determine the eligibility of surviving spouses and children for dependency and indemnity compensation (DIC), death pension, accrued benefits, and death compensation. VA Form 21P-534a is an abbreviated application for DIC that is used only by surviving spouses and children of veterans who died while on active duty service. The VA Form 21P-534EZ is used for the Fully Developed Claims (FDC) program for pension claims.

An agency may not conduct or sponsor, and a person is not required to respond to a collection of information unless it displays a currently valid OMB control number. The Federal Register Notice with a 60-day comment period soliciting comments on this collection of information was published at 83 FR 2878 on January 19, 2018, pages 2878 and 2879.

Affected Public: Individuals and households.

Estimated Annual Burden: 69,091 hours.

Estimated Average Burden per Respondent: 36.05 minutes.

Frequency of Response: Once.

Estimated Number of Respondents: 115,000.

By direction of the Secretary.
Cynthia Harvey-Pryor,
Department Clearance Officer, Office of Quality and Compliance, Department of Veterans Affairs.

[FR Doc. 2018-05994 Filed 3-22-18; 8:45 am]

BILLING CODE 8320-01-P